DEPARTMENT OF TRANSPORTATION

Office of the Secretary

14 CFR Part 389

[Docket No. OST-99-5003]

RIN 2105-AC47

Withdrawal of Proposed Rulemaking Action; Fees and Charges for Special Services

AGENCY: Office of the Secretary, DOT.

ACTION: Withdrawal of proposed rulemaking.

SUMMARY: This document withdraws an Office of the Secretary (OST) notice of proposed rulemaking that proposed to update the fees and charges paid by recipients of certain aviation licensing and related services provided by the Department. The proposal was predicated on specific labor and overhead cost studies and data that, with the passage of time and organizational changes within OST, have been rendered stale, greatly reducing their utility as bases for cost-based fees and charges.

ADDRESSES: You may obtain a copy of this document from the DOT public docket through the Internet at http://dms.dot.gov, docket number OST-99-5003. If you do not have access to the Internet, you may obtain a copy of the notice by United States mail from the Docket Management System, U.S. Department of Transportation, Room PL-401, 400 Seventh Street, SW., Washington, DC 20590. You must identify docket number OST-99-5003 and request a copy of the document entitled “Withdrawal of Proposed Rulemaking.”

You may also review the public docket in person in the Docket office between 9 a.m. and 5 p.m., Monday through Friday, except Federal holidays. The Docket office is on the plaza level of the Department of Transportation. Additionally, you can also get a copy of this document from the Federal Register Web site at http://www.gpo.gov.

FOR FURTHER INFORMATION CONTACT: John D. Miller, Office of Aviation Analysis (X-50), Office of the Assistant Secretary for Aviation and International Affairs, 400 Seventh Street, SW., Washington, DC 20590; (202) 366-4834; fax: (202) 366-7035; e-mail: John.Miller@dot.gov.

SUPPLEMENTARY INFORMATION:

Background

Part 389 of Title 14 of the Code of Federal Regulations—Fees and Charges for Special Services—describes certain special services related to aviation economic proceedings, such as certification of new air carriers, licensing of air taxi operators, and award of international route authority to U.S. airlines, that the Department provides to the public, and sets forth the fees and charges applicable to those services.

In January 1999, we issued a Notice of Proposed Rulemaking (NPRM), 64 FR 3229, to obtain comments on proposed revisions to the filing fee schedule and related provisions of Part 389. In the main, the NPRM proposed (1) To eliminate, except in the case of a treaty or agreement, the waiver of processing fees for those foreign air carriers whose home countries waive processing fees for U.S. air carriers, as set forth in existing section 389.24; (2) to revise and update the individual services and related fee amounts included on the schedule contained in existing section 389.25(a), including significant fee increases for several existing services and new fees for several services not previously covered; and (3) to implement certain procedural changes to facilitate processing of licensing applications.

Our proposed fee amounts were based on work-process analysis of more than 600 service applications, including (1) the direct labor costs incurred to process individual applications and (2) the office space, utilities and related overhead costs allocable to individual applications based on the organizational structure of the Office of the Assistant Secretary for Avaition and International Affairs.

Comments

We received comments on the NPRM from the British Government, the Air Transport Association of America, the International Air Carrier Association, and representatives of 20 foreign air carriers. All commenters objected to our proposal to eliminate the waiver of foreign air carrier processing fees as contrary to U.S. law and provisions of bilateral agreements, or as counterproductive for U.S. air carriers. Similarly, all contested the rationale for, or proposed amount of, one or more of our individual fee items as unreasonable, unwarranted or excessive. No party objected to our proposed changes to facilitate applications processing.

Withdrawal

Following our receipt and review of comments on the NPRM, unanticipated events interrupted the rulemaking process. In particular, the horrific events of September 11, 2001, and their aftermath required us to redirect resources to more immediate priorities. Under the Air Transportation Safety and Stabilization Act (Pub. L. 107-42), for example, we were charged with dispensing up to $5 billion in direct payments to assist air carriers that had suffered losses as a result of the September 11 attacks. The delays experienced since September 11 have greatly reduced the utility of the labor cost data underlying our 1999 fee proposal. That proposal has been further compromised by outdated overhead allocations due to numerous organizational changes which have occurred within the Office of the Assistant Secretary for Aviation and International Affairs since the NPRM was issued. For these reasons, the Department believes that the labor and overhead cost estimates used to develop its proposed fees are no longer timely and do not support finalization of the proposed rule. We are, therefore, withdrawing the 1999 NPRM.

Issued in Washington, DC, on November 4, 2005.
Michael W. Reynolds,
Acting Assistant Secretary for Aviation and International Affairs.

[FR Doc. 05-22451 Filed 11-9-05; 8:45 am]

BILLING CODE 4910-62-P